DEPARTMENT OF COMMERCE

National Oceanic and Atmospheric Administration

[RTID 0648-XB740]

Marine Mammals; File No. 26285

AGENCY: National Marine Fisheries Service (NMFS), National Oceanic and Atmospheric Administration (NOAA), Commerce.

ACTION: Notice; receipt of application.

SUMMARY: Notice is hereby given that The Whale Museum, P.O. Box 924, Friday Harbor, Washington 98250 (Jenny Atkinson, Responsible Party) has applied in due form for a permit to conduct research or enhancement on marine mammals.

DATES: Written, telefaxed, or email comments must be received on or before February 28, 2022.

ADDRESSES: The application and related documents are available for review by selecting “Records Open for Public Comment” from the “Features” box on the Applications and Permits for Protected Species (APPS) home page, https://apps.nmfs.noaa.gov, and then selecting File No. 26285 from the list of available applications. These documents are also available upon written request via email to NMFS.Pr1Comments@noaa.gov.

Written comments on this application should be submitted via email to NMFS.Pr1Comments@noaa.gov. Please include File No. 26285 in the subject line of the email comment.

Those individuals requesting a public hearing should submit a written request via email to NMFS.Pr1Comments@noaa.gov. The request should set forth the specific reasons why a hearing on this application would be appropriate.

FOR FURTHER INFORMATION CONTACT: Shasta McClenahan, Ph.D. or Courtney Smith, Ph.D., (301) 427-8401.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), the regulations governing the taking, importing, and exporting of endangered and threatened species (50 CFR parts 222-226), and the Fur Seal Act of 1966, as amended (16 U.S.C. 1151 et seq.).

The applicant proposes to conduct research for the Soundwatch Boater Education Program in the in-land waters of Washington State to evaluate vessel regulations and guidelines, characterize vessel trends, and prevent vessel disturbances to marine mammals. The primary target species are Southern Resident and transient killer whales (Orcinus orca), but additional species taken during research may include fin (Balaenoptera physalus), gray (Eschrichtius robustus), humpback (Megaptera novaeangliae), and minke (B. acutorostrata) whales; Dall's (Phocoenoides dalli) and harbor (Phocoena phocoena) porpoises. Up to 50 whales of each killer whale stock and 20 individuals of each of the other cetacean species may be taken annually during vessel surveys including photography, photo-identification, video recording, and behavioral observations. Five species of non-listed pinnipeds may be unintentionally harassed during research activities. See the application for complete numbers of animals requested by species. The permit is requested for five years.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: January 24, 2022.
Julia M. Harrison,
Chief, Permits and Conservation Division, Office of Protected Resources, National Marine Fisheries Service.

[FR Doc. 2022-01600 Filed 1-26-22; 8:45 am]

BILLING CODE 3510-22-P